SECURITIES AND EXCHANGE COMMISSION

Sunshine Act Meetings

FEDERAL REGISTER CITATION OF PREVIOUS ANNOUNCEMENT: 89 FR 15623, March 4, 2024.

PREVIOUSLY ANNOUNCED TIME AND DATE OF THE MEETING: Wednesday, March 6, 2024, at 9:45 a.m.

CHANGES IN THE MEETING: The order of agenda items for the Open Meeting scheduled for Wednesday, March 6, 2024, at 9:45 a.m. has been changed as follows:

1. The Commission will consider whether to adopt rules to require registrants to provide certain climate-related information in their registration statements and annual reports.

2. The Commission will consider whether to adopt amendments to the national market system (NMS) stock order execution disclosure requirements of Regulation NMS under the Securities Exchange Act of 1934 that would expand the scope of entities subject to Rule 605, modify the categorization and content of order information reported under the rule, and require reporting entities to produce a summary report of execution quality.

CONTACT PERSON FOR MORE INFORMATION: For further information; please contact Vanessa A. Countryman from the Office of the Secretary at (202) 551-5400.

(Authority: 5 U.S.C. 552b)

Dated: March 5, 2024.
J. Matthew DeLesDernier,
Deputy Secretary.

[FR Doc. 2024-05046 Filed 3-5-24; 4:15 pm]

BILLING CODE 8011-01-P